DEPARTMENT OF TRANSPORTATION

Federal Aviation Administration

14 CFR Part 39

[Docket No. 2002-CE-04-AD; Amendment 39-13050; AD 2003-04-02]

RIN 2120-AA64

Airworthiness Directives; APEX Aircraft Model CAP 10B Airplanes

AGENCY: Federal Aviation Administration, DOT.

ACTION: Final rule.

SUMMARY: This amendment supersedes Airworthiness Directive (AD) 98-12-10 and AD 99-21-23, which currently apply to APEX Aircraft (APEX) Model CAP 10B airplanes. AD 98-12-10 requires installing an inspection opening in the wing, repetitively inspecting the upper and lower wing spars for structural cracking, and, if any cracks are found, repairing the cracks in accordance with a repair method. AD 99-21-23 requires restricting the entry speed for performing flick maneuvers to 97 knots, inserting a copy of the AD into the Limitations Section of the CAP 10B flight manual, and fabricating and installing a placard (in the cockpit of the airplane within the pilot's clear view) that indicates this limitation. This AD is the result of mandatory continuing airworthiness information (MCAI) issued by the airworthiness authority for France. This AD retains the wing modification and repair requirements from AD 98-12-10. This AD also incorporates new repetitive inspection procedures, further reduces the flick maneuver speed specified in AD 99-21-23, and temporarily reduces the load factor limits prior to the initial inspection. The actions specified by this AD are intended to provide the flight information necessary to the pilot so that excessive speed is not used during aerobatic maneuvers and to detect and correct structural cracks in the wing spar, which could result in the wing separating from the airplane. Such failure could lead to loss of control of the airplane.

DATES: This AD becomes effective on April 4, 2003.

The Director of the Federal Register approved the incorporation by reference of certain publications listed in the regulations as of April 4, 2003.

The Director of the Federal Register previously approved the incorporation by reference of Avions Mudry Service Bulletin CAP10B No. 16 (ATA 57-004), dated April 27, 1992, as listed in the regulations as of July 23, 1993 (58 FR 31342, June 2, 1993).

ADDRESSES: You may get the service information referenced in this AD from APEX Aircraft, Direction Technique, Route de Troyes, F21121 Darois, France; telephone: +33 (380) 356 510; facsimile: +33 (380) 356 515. You may view this information at the Federal Aviation Administration (FAA), Central Region, Office of the Regional Counsel, Attention: Rules Docket No. 2002-CE-04-AD, 901 Locust, Room 506, Kansas City, Missouri 64106; or at the Office of the Federal Register, 800 North Capitol Street, NW., suite 700, Washington, DC.

FOR FURTHER INFORMATION CONTACT: S.M. Nagarajan, Aerospace Engineer, FAA, Small Airplane Directorate, 901 Locust, Room 301, Kansas City, Missouri 64106; telephone: (816) 329-4145; facsimile: (816) 329-4090.

SUPPLEMENTARY INFORMATION:

Discussion

Has FAA taken any action to this point? The Direction Generale De L'Aviation Civile (DGAC), which is the airworthiness authority for France, notified FAA that it was receiving reports of cracks on the upper and lower surfaces of the wing spar. The DGAC reported that the cracking was occurring as a result of exceeding the load limit determined for the airplane, executing snap roll maneuvers outside the envelope for which the airplane is certificated, and experiencing repetitive hard landings. This 1 condition caused us to issue AD 98-12-10, Amendment 39-10566 (63 FR 31104, June 8, 1988). AD 98-12-10 requires the following on Model CAP 10B airplanes, all serial numbers through 263:

—Installing an inspection opening in the wing;

—Repetitively inspecting the upper and lower wing spars for structural cracking; and

—If any cracks are found, repairing the cracks.

Accomplishment of these actions is required in accordance with Avions Mudry Service Bulletin No. 15, CAP10B-57-003, Revision 1, dated April 3, 1996, and Avions Mudry Service Bulletin CAP10B No. 16 (ATA 57-004), dated April 27, 1992.

The DGAC also reported that there was no airspeed limitation for performing flick maneuvers during aerobatic flight. The speeds listed in sections 4 and 7 of the CAP 10B flight manual are only recommendations instead of required speeds.

Without required entry speeds for flick maneuvers when performing aerobatic flight, the pilot could use excessive speed and cause the wing to separate from the airplane. This situation caused us to issue AD 99-21-23, Amendment 39-11368 (64 FR 55416, October 13, 1999). AD 99-21-23 requires the following on Model CAP 10B airplanes, all serial numbers:

—Restricting the entry speed for performing flick maneuvers to 97 knots;

—Inserting a copy of the AD into the Limitations Section of the CAP 10B flight manual; and

—Fabricating and installing a placard (in the cockpit of the airplane within the pilot's clear view).

What has happened since AD 98-12-10 and AD 99-21-23 to initiate this action? The DGAC notified the FAA that an unsafe condition may still exist on all APEX Model CAP 10B airplanes, which created the need to change AD 98-12-10 and AD 99-21-23. The DGAC reports that additional fractures in the wing spar are being found that were not detected using the inspection procedures specified in AD 98-12-10.

Has FAA taken any action to this point? We issued a proposal to amend part 39 of the Federal Aviation Regulations (14 CFR part 39) to include an AD that would apply to all APEX Model CAP 10B airplanes. This proposal was published in the Federal Register as a notice of proposed rulemaking (NPRM) on July 2, 2002 (67 FR 44404). The NPRM proposed to supersede AD 98-12-10 and AD 99-21-23 with a new AD that would require the following:

—Installing an inspecting opening in each wing;

—Temporarily reducing the load factor limits until completion of the initial inspection of the upper and lower surfaces of the wing spar and landing gear attachment blocks and are found free of cracks;

—Repetitively inspecting the upper and lower surfaces of the wing spar and the landing gear attachment blocks for cracks;

—Reducing the flick maneuver speed;

—Inserting a copy of the AD into the Limitation Section of the CAP 10B flight manual; and

—Fabricating and installing a placard that indicates the flick maneuver speed in the cockpit in the pilot's clear view. The placard will incorporate the following language:

“The Never-Exceed Airspeed for Positive or Negative Flick Maneuvers Is 160 KM/H (86 KTS)”

What is the potential impact if FAA took no action? This condition, if not detected and corrected, could result in structural cracks in the wing spar, which could result in the wing separating from the airplane. Such failure could lead to loss of control of the airplane.

Was the public invited to comment? The FAA encouraged interested persons to participate in the making of this amendment. The following presents the comments received on the proposal and FAA's response to each comment:

Comment Issue No. 1: Change the Initial Compliance Time for Inspecting the Upper Wing Spar Cap, the Main Wing Spar Undersurface, and the Landing Gear Attachment Blocks

What is the commenter's concern? The commenter states that the initial inspection compliance time of within the next 50 hours TIS after the effective date of this AD should be increased to 55 hours TIS to coincide with French AD Number 2001-616(A) R1, dated May 29, 2002.

What is FAA's response to the concern? We concur with the commenter and will change the final rule AD action to incorporate this change.

Comment Issue No. 2: Change the Repetitive Inspection Compliance Time for the Landing Gear Attachment Blocks

What is the commenter's concern? The commenters are concerned that repetitively removing bolts to inspect the landing gear attachment blocks for cracks accelerates wear by elongating the bolt holes, which promotes block cracking. Requiring repetitive inspections at intervals not to exceed every 50 hours time-in-service (TIS) will ultimately do more harm than good. The commenters suggest that repetitive inspections be performed at each annual inspection.

What is FAA's response to the concern? We partially concur. We agree that the intervals for repetitive inspections of the landing gear attachment blocks should be increased. However, we cannot enforce a compliance time of “at each annual inspection.” The unsafe condition is directly related to use and not calendar time. Therefore, we are increasing the intervals for repetitive inspections of the landing gear attachment blocks to every 1,000 hours TIS.

We will change the final rule AD action to incorporate this change.

Comment Issue No. 3: Change the Repetitive Inspection Compliance Time for the Upper Wing Spar Cap and the Main Wing Spar Undersurface

What is the commenter's concern? The commenter states that the repetitive inspection compliance time of every 50 hours TIS after the initial inspection should be increased to 55 hours TIS to coincide with intermediate inspection requirements in French AD Number 2001-616(A) R1, dated May 29, 2002. This is for the upper wing spar cap and the main wing spar undersurface.

What is FAA's response to the concern? We concur with the commenter and will change the final rule AD action to incorporate this change.

FAA's Determination

What is FAA's final determination on this issue? We carefully reviewed all available information related to the subject presented above and determined that air safety and the public interest require the adoption of the rule as proposed except for changing the compliance time for the repetitive inspection intervals and minor editorial questions. We have determined that these changes and minor corrections:

—Provide the intent that was proposed in the NPRM for correcting the unsafe condition; and

—Do not add any additional burden upon the public than was already proposed in the NPRM.

Cost Impact

How many airplanes does this AD impact? We estimate that this AD affects 36 airplanes in the U.S. registry.

What is the cost impact of this AD on owners/operators of the affected airplanes? We estimate the following costs to accomplish the installation of the inspection opening:

Labor cost | Parts cost | Total cost per airplane | Total cost on U.S. operators
18 workhours × $60 per hour = $1,080 | No parts required to make the inspection opening | $1,080 | $1,080 × 36 = $38,880

We estimate the following costs to accomplish the inspection(s):

Labor cost | Parts cost | Total cost per airplane | Total cost on U.S. operators
15 workhours × $60 per hour = $300 | No parts required to perform the inspection | $300 | $300 × 36 = $10,800

The FAA has no method of determining the number of repetitive inspections each owner/operator will incur over the life of each of the affected airplanes so the cost impact is based on the initial inspection.

The FAA has no method of determining the number of repairs each owner/operator will incur over the life of each of the affected airplanes based on the results of the inspections. We have no way of determining the number of airplanes that may need such repair. The extent of damage may vary on each airplane.

Accomplishing the flight manual and placard requirements of this AD may be performed by the owner/operator holding at least a private pilot certificate as authorized by § 43.7 of the Federal Aviation Regulations (14 CFR 43.7), and must be entered into the aircraft records showing compliance with this AD in accordance with § 43.9 of the Federal Aviation Regulations (14 CFR 43.9). The only cost impact of this action is the time it will take each owner/operator of the affected airplanes to insert the information into the flight manual and fabricate and install the placard.

What is the difference between the cost impact of this AD and the cost impacts of AD 98-12-10 and AD 99-21-23? The only difference between this AD and AD 98-12-10 and AD 99-21-23 is the change of inspection procedures. The FAA has determined that the costs of these changes are minimal and does not increase the cost impact over that already required by the previous ADs.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by Reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 98-12-10, Amendment 39-10566 (63 FR 31104, June 8, 1988), and AD 99-21-23, Amendment 39-11368 (64 FR 55416, October 13, 1999), and by adding a new AD to read as follows:

2003-04-02 Apex Aircraft (Avions Mudry et Cie previously held type certificate A36EU): Amendment 39-13050; Docket No. 2002-CE-04-AD; Supersedes AD 98-12-10, Amendment 39-10566, and AD 99-21-23, Amendment 39-11368.

(a) What airplanes are affected by this AD? This AD affects Model CAP 10B airplanes, all serial numbers, that are certificated in any category.

(b) Who must comply with this AD? Anyone who wishes to operate any of the airplanes identified in paragraph (a) of this AD must comply with this AD.

(c) What problem does this AD address? The actions specified by this AD are intended to provide the flight information necessary to the pilot so that excessive speed is not used during aerobatic maneuvers and to detect and correct structural cracks in the wing spar, which could result in the wing separating from the airplane. Such failure could lead to loss of control of the airplane.

(d) What actions must I accomplish to address this problem? To address this problem, you must accomplish the following:

Actions | Compliance | Procedures
(1) For CAP 10 B airplanes, all serial numbers through 263, install a permanent inspection opening in the No. 1 wing rib. Inspection openings are incorporated during production for airplanes having a serial number of 264 or higher | Within the next 100 hours time-in-service (TIS) after July 23, 1993 (the effective date of AD 93-10-11, which was superseded by AD 98-12-10), unless already accomplished | In accordance with Avions Mudry Service Bulletin CAP10B No. 16 ATA (57-004), dated April 27, 1992.
(2) For all airplanes, accomplish the following: (i) Restrict the load factors limitation to +5 & −3 G's. (ii) Restrict the entry speed for performing flick maneuvers to 86 knots through the incorporation of the following information into the CAP 10B flight manual: “The never-exceed airspeed for positive or negative flick maneuvers is 160 km/h (86 knots).” (iii) Fabricate a placard that incorporates the following words (using at least ⅛-inch letters) and install this placard on the instrument panel within the pilot's clear view: “THE NEVER EXCEED AIRSPEED FOR POSITIVE OR NEGATIVE FLICK MANEUVERS IS 160 KM/H (86 KNOTS)”. | Within the next 25 hours TIS after April 4, 2003 (the effective date of this AD) | Accomplish the limitations of paragraphs (d)(2)(i) and (d)(2)(ii) of this AD by inserting a copy of the AD into the Limitations Section of the CAP 10B flight manual. The owner/operator holding at least a private pilot certificate as authorized by section 43.7 of the Federal Aviation Regulations (14 CFR 43.7) may accomplish this flight manual insertion and the placard requirements of paragraph (d)(2)(iii) of this AD. Make an entry into the aircraft records showing compliance with these portions of the AD in accordance with section 43.9 of the Federal Aviation Regulations (14 CFR 43.9).
(3) Inspect the upper wing spar cap, the main wing spar undersurface, and the landing gear attachment blocks for cracks | Initially inspect all areas within the next 55 hours TIS after April 4, 2003 (the effective date of this AD). Repetitively inspect the upper wing spar cap and the main wing spar undersurface thereafter at intervals not-to-exceed 55 hours TIS Repetitively inspect the landing gear attachment blocks thereafter at intervals not-to-exceed 1,000 hours TIS. | In accordance with APEX Aircraft CAP10B—Upper spar cap inspection Document No. 1000913GB, Revision No. 00, dated February 4, 2002; APEX Aircraft CAP10B—Landing gear attachment blocks inspection Document No. 1000914GB, Revision No. 00, dated February 4, 2002; and APEX Aircraft CAP10B—Main spar undersurface inspection Document No. 1000915GB, Revision No. 00, dated February 4, 2002.
(4) If cracks are found during any inspection required in paragraph (d)(3) of this AD, accomplish the following: (i) Obtain a repair scheme from the manufacturer through the FAA at the address specified in paragraph (f) of this AD; (ii) Incorporate this repair scheme; and (iii) The repair scheme will indicate whether or not you may raise the load factor limits. | Obtain and incorporate the repair scheme prior to further flight after the inspection in which the cracks are found. Continue to inspect as specified in paragraph (d)(3) of this AD | In accordance with the repair scheme obtained from APEX Aircraft, Direction Technique, Route de Troyes, F21121, Darois, France. Obtain this repair scheme through the FAA at the address specified in paragraph (f) of this AD.
(5) If no cracks are found during the initial inspection required in paragraph (d)(3) of this AD, you may raise load factor limits back to +6 &−4.5 G's | Prior to further flight after the initial inspection required in paragraph (d)(3) of this AD in which no cracks were found | Not applicable.

Note 1: The service information specified in paragraph (d)(3) of this AD is available on CD-ROM from the manufacturer. You may contact them at the address and phone number in paragraph (h) of this AD.

(e) Can I comply with this AD in any other way?

(1) You may use an alternative method of compliance or adjust the compliance time if:

(i) Your alternative method of compliance provides an equivalent level of safety; and

(ii) The Standards Office Manager, Small Airplane Directorate, approves your alternative. Submit your request through an FAA Principal Maintenance Inspector, who may add comments and then send it to the Standards Office Manager.

(2) Alternative methods of compliance approved in accordance with AD 98-12-10 and AD 99-21-23, which are superseded by this AD, are not approved as alternative methods of compliance with this AD.

Note 2: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact S.M. Nagarajan, Aerospace Engineer, FAA, Small Airplane Directorate, 901 Locust, Room 301, Kansas City, Missouri 64106; telephone: (816) 329-4145; facsimile: (816) 329-4090.

(g) What if I need to fly the airplane to another location to comply with this AD? The FAA can issue a special flight permit under §§ 21.197 and 21.199 of the Federal Aviation Regulations (14 CFR 21.197 and 21.199) to operate your airplane to a location where you can accomplish the requirements of this AD.

(h) Are any service bulletins incorporated into this AD by reference?

(1) Actions required by this AD must be done in accordance with Avions Mudry Service Bulletin CAP10B No. 16 (ATA 57-004), dated April 27, 1992; APEX Aircraft CAP10B—Upper spar cap inspection Document No. 1000913GB, Revision No. 00, dated February 4, 2002; APEX Aircraft CAP10B—Landing gear attachment blocks inspection Document No. 1000914GB, Revision No. 00, dated February 4, 2002; and APEX Aircraft CAP10B—Main spar undersurface inspection Document No. 1000915GB, Revision No. 00, dated February 4, 2002.

(i) The Director of the Federal Register approved this incorporation by reference of APEX Aircraft CAP10B—Upper spar cap inspection Document No. 1000913GB, Revision No. 00, dated February 4, 2002; APEX Aircraft CAP10B—Landing gear attachment blocks inspection Document No. 1000914GB, Revision No. 00, dated February 4, 2002; and APEX Aircraft CAP10B—Main spar undersurface inspection Document No. 1000915GB, Revision No. 00, dated February 4, 2002, under 5 U.S.C. 552(a) and 1 CFR part 51.

(ii) The Director of the Federal Register previously approved the incorporation by reference of Avions Mudry Service Bulletin CAP10B No. 16 (ATA 57-004), dated April 27, 1992, as listed in the regulations as of July 23, 1993 (58 FR 31342, June 2, 1993).

(2) You may get copies from APEX AIRCRAFT, Direction Technique, Route de Troyes, F21121 Darois, France; telephone: +33 (380) 356 510; facsimile: +33 (380) 356 515. You may view copies at the FAA, Central Region, Office of the Regional Counsel, 901 Locust, Room 506, Kansas City, Missouri, or at the Office of the Federal Register, 800 North Capitol Street, NW, suite 700, Washington, DC.

(i) Does this AD action affect any existing AD actions? This amendment supersedes AD 98-12-10, Amendment 39-10566 and AD 99-21-23, Amendment 39-11368.

Note 3: The subject of this AD is addressed in French AD Number 2001-616(A) R1, dated May 29, 2002.

(j) When does this amendment become effective ? This amendment becomes effective on April 4, 2003.

Issued in Kansas City, Missouri, on February 4, 2003.
Michael Gallagher,
Manager, Small Airplane Directorate, Aircraft Certification Service.

[FR Doc. 03-3450 Filed 2-18-03; 8:45 am]

BILLING CODE 4910-13-P